DEPARTMENT OF TRANSPORTATION

Office of the Secretary

Aviation Proceedings, Agreements Filed During the Week Ending June 16, 2000

The following Agreements were filed with the Department of Transportation under the provisions of 49 U.S.C. Sections 412 and 414. Answers may be filed within 21 days after the filing of the application.

Docket Number: OST-2000-7516.

Date Filed:June 13, 2000.

Parties: Members of the International Air Transport Association.

Subject: CAC/28/Meet/004/00 dated May 29, 2000; Expedited Reso 813; Intended effective date: July 1, 2000.

Docket Number: OST-2000-7539.

Date Filed: June 16, 2000.

Parties: Members of the International Air Transport Association.

Subject: Request of IATA pursuant to 49 U.S.C. Sections 41308, 41309 and Parts 303.03, 303.05 and 303.03(c), on behalf of member airlines of the International Air Transport Association (IATA) that the Department approve and confer antitrust immunity on an amendment to the Provisions for the Conduct of IATA Traffic Conferences (the Provisions).

Andrea M. Jenkins,
Federal Register Liaison.

[FR Doc. 00-16385 Filed 6-27-00; 8:45 am]

BILLING CODE 4910-62-P